TENNESSEE VALLEY AUTHORITY

Privacy Act; System of Records

ACTION: Amendment of system of records to include new routine uses.

SUMMARY: In accordance with the Privacy Act (5 U.S.C. 552a(e)(4)), the Tennessee Valley Authority (TVA) is issuing notice of our intent to amend the system of records entitled TVA-31 “OIG Investigative Records—TVA” to include new routine uses. We invite public comment on this publication.

EFFECTIVE DATE: The changes will become effective as proposed on April 28, 2003, unless comments which would warrant our preventing the changes from taking effect are received on or before 30 days from the date of this notice.

ADDRESSES: Interested individuals may comment on this publication by writing to Wilma H. McCauley, Privacy Act Officer, Tennessee Valley Authority, 1101 Market Street (EB 5B), Chattanooga, Tennessee 37402-2801. All comments received will be available for public inspection at that address.

FOR FURTHER INFORMATION CONTACT: Wilma H. McCauley at (423) 751-2523.

SUPPLEMENTARY INFORMATION:

Discussion of Proposed Additions to Routine Uses

This publication is in accordance with the Privacy Act requirement that Agencies publish their amended Systems in the Federal Register when there is a revision, change or addition. TVA is amending the Routine Uses of Records, TVA-31, OIG Investigative Records—TVA, previously published at 64 FR 29398 (June 1, 1999), specifically to allow the disclosure of names and other information to the public when (1) an investigation has become public knowledge, (2) necessary to preserve confidence in the integrity of the investigative process, (3) necessary to demonstrate the accountability of individuals covered by this system, (4) a legitimate public interest exists, or (5) necessary for protection from imminent threat to life or property. These uses would allow, for example, disclosure of names of indicted or convicted individuals in the OIG Semiannual Report, other reports, and press releases or other forms of communication with the media. TVA's objectives in allowing disclosure of information include enhancing the deterrence of similar crimes against TVA.

In addition, the amended routine uses would allow the disclosure of information to the President's Council on Integrity and Efficiency (PCIE) for the preparation of reports to the President and Congress on the activities of the Inspectors General. Finally, the amendments would allow the disclosure of information to members of the PCIE, the Department of Justice, the Federal Bureau of Investigation, or the U.S. Marshals Service, as necessary, for the purpose of investigative qualitative assessment reviews. The PCIE is establishing a peer review process to, among other things, ensure that adequate internal safeguards and management procedures are maintained.

TVA-31

SYSTEM NAME:

OIG Investigative Records—TVA.

CATEGORIES OF INDIVIDUALS COVERED BY THE SYSTEM:

Individuals and entities who are or have been the subjects of investigations by the Office of the Inspector General (OIG), or who provide information in connection with such investigations, including but not limited to: Employees; former employees; current or former contractors and subcontractors and their employees; consultants; and other individuals and entities which have or are seeking to obtain business or other relations with TVA.

CATEGORIES OF RECORDS IN THE SYSTEM:

Information relating to investigations, including information provided by known or anonymous complainants; information provided by the subjects of investigations; information provided by individuals or entities with whom the subjects are associated (e.g., coworkers, business associates, relatives); information provided by Federal, State, or local investigatory, law enforcement, or other Government or non-Government agencies; information provided by witnesses and confidential sources; information from public source materials; information from commercial data bases or information resources; investigative notes; summaries of telephone calls; correspondence; investigative reports or prosecutive referrals; and information about referrals for criminal prosecutions, civil proceedings, and administrative actions taken with respect to the subjects.

AUTHORITY FOR MAINTENANCE OF THE SYSTEM:

Tennessee Valley Authority Act of 1933, 16 U.S.C. 831-831dd; Executive Order 10450; Executive Order 11222; Hatch Act, 5 U.S.C. 7324-7327; 28 U.S.C. 535; Proposed Plan for the Creation, Structure, Authority, and Function of the Office of Inspector General, Tennessee Valley Authority, approved by the TVA Board of Directors on October 18, 1985; TVA Code XIII INSPECTOR GENERAL, approved by the TVA Board of Directors on February 19, 1987; and Inspector General Act Amendments of 1988, Pub. L. 100-504, 102 Stat. 2515.

ROUTINE USES OF RECORDS MAINTAINED IN THE SYSTEM, INCLUDING CATEGORIES OF USERS AND THE PURPOSES OF SUCH USES:

To the public when: (1) The matter under investigation has become public knowledge, or (2) when the Inspector General determines that such disclosure is necessary (a) to preserve confidence in the integrity of the OIG investigative process, or (b) to demonstrate the accountability of TVA officers, or employees, or other individuals covered by this system; unless the Inspector General determines that disclosure of the specific information in the context of a particular case would constitute an unwarranted invasion of personal privacy.

To the news media and public when there exists a legitimate public interest (e.g., to provide information on events in the criminal process, such as indictments), or when necessary for protection from imminent threat to life or property.

To members of the President's Council on Integrity and Efficiency, for the preparation of reports to the President and Congress on the activities of the Inspectors General.

To members of the President's Council on Integrity and Efficiency, the Department of Justice, the Federal Bureau of Investigation, or the U.S. Marshals Service, as necessary, for the purpose of conducting qualitative assessment reviews of the investigative operations of TVA OIG to ensure that adequate internal safeguards and management procedures are maintained.

* * * * *

Jacklyn J. Stephenson,
Senior Manager, Enterprise Operations, Information Services.

[FR Doc. 03-7314 Filed 3-26-03; 8:45 am]

BILLING CODE 8120-08-P